SECURITIES AND EXCHANGE COMMISSION

Proposed Collections; Comment Request

Upon Written Request; Copies Available From: Securities and Exchange Commission, Office of Investor Education and Advocacy, Washington, DC 20549-0213.

Extensions:

Rule 163; OMB Control No. 3235-0619; SEC File No. 270-556.

Rule 173; OMB Control No. 3235-0618; SEC File No. 270-557.

Rule 433; OMB Control No. 3235-0617; SEC File No. 270-558.

Notice is hereby given that pursuant to the Paperwork Reduction Act of 1995 (44 U.S.C. 3501 et seq.) the Securities and Exchange Commission (“Commission”) is soliciting comments on the collections of information summarized below. The Commission plans to submit these existing collections of information to the Office of Management and Budget for approval.

Rule 163 (17 CFR 230.163) provides an exemption from section 5(c) under the Securities Act of 1933 (15 U.S.C. 77a et seq.) for certain communications by on behalf of a well-known seasoned issuer. The information filed under Rule 163 that is filed with the Commission is publicly available. We estimate that it takes approximately .24 burden hours per response to provide the information required under Rule 163 and that the information is filed by 53 respondents for a total annual reporting burden of 13 hours. We estimate that 25% of .24 hours per response (.06 hours) is prepared by the company for a total annual burden of 3 hours (.06 hours per response × 53 responses).

Rule 173 (17 CFR 230.173) provides a notice of registration to investors who purchased securities in a registered offering under the Securities Act of 1933 (15 U.S.C. 77a et seq.). The Rule 173 notice must be provided by each underwriter or dealer to each purchaser of securities. It is not publicly available. We estimate that it takes approximately .01 hour per response to provide the information required under Rule 173 and that the information is filed by 5,338 companies approximately 43,546 times a year for a total of 232,448,548 responses. We estimate that the total annual reporting burden for Rule 173 is 2,324,485 hours (.01 hours per response × 232,448,548 responses).

Rule 433 (17 CFR 230.433) governs the use and filing of free writing prospectuses under the Securities Act of 1933 (15 U.S.C. 77a et seq.). The purpose of Rule 433 is to reduce restrictions on communications that companies can make to investors during a registered offering, while still maintaining a high level of investor protection. A free writing prospectus meeting the conditions of Rule 433(d)(1) must be filed with the Commission and is publicly available. We estimate that it takes approximately 1.3 burden hours per response to prepare a free writing prospectus and that the information is filed by 2,906 companies approximately 1.25 times a year for a total of 3,633 responses. We estimate that 25% of the 1.3 burden hours per response (.32 hours) is prepared by the company for total annual reporting burden of 1,163 hours (.32 hours × 3,633 responses).

Written comments are invited on: (a) Whether these proposed collections of information are necessary for the performance of the functions of the agency, including whether the information will have practical utility; (b) the accuracy of the agency's estimate of the burden imposed by the collections of information; (c) ways to enhance the quality, utility, and clarity of the information collected; and (d) ways to minimize the burden of the collection of information on respondents, including through the use of automated collection techniques or other forms of information technology. Consideration will be given to comments and suggestions submitted in writing within 60 days of this publication.

Please direct your written comment to R. Corey Booth, Director/Chief Information Officer, Securities and Exchange Commission, C/O Shirley Martinson, 6432 General Green Way, Alexandria, Virginia 22312; or send an e-mail to: PRA_Mailbox@sec.gov.

November 27, 2007.
Florence E. Harmon,
Deputy Secretary.

[FR Doc. E7-23873 Filed 12-7-07; 8:45 am]

BILLING CODE 8011-01-P